FEDERAL COMMUNICATIONS COMMISSION

Notice of Public Information Collection(s) Being Reviewed by the Federal Communications Commission

March 25, 2002.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a current valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before May 28, 2002. If you anticipate that you will be submitting comments, but find it difficult to do so within the period of time allowed by this notice, you should advise the contact listed below as soon as possible.

ADDRESSES: Direct all comments to Les Smith, Federal Communications Commission, Room 1-A804, 445 12th Street, SW, Washington, DC 20554, or via the Internet to lesmith@fcc.gov.

FOR FURTHER INFORMATION CONTACT: For additional information or copies of the information collection(s) contact Les Smith at 202-418-0217 or via the Internet at lesmith@fcc.gov.

SUPPLEMENTARY INFORMATION: OMB Control Number: 3060-0370.

Title: Part 32, Uniform System of Accounts for Telecommunications Companies.

Form Number: N/A.

Type of Review: Revision of a currently approved collection.

Respondents: Business or other for-profit entities.

Number of Respondents: 239.

Estimated Time per Response: 6,123.41 hrs. (avg.).

Frequency of Response: Recordkeeping; on occasion reporting requirements.

Total Annual Burden: 1,463,496 hrs.

Total Annual Costs: None.

Needs and Uses: The Uniform System of Accounts is an historical financial accounting system that reports the results of operational and financial events in a manner that enables both management and regulators to assess these results within a specified accounting period. Subject respondents are telecommunications companies. Entities having annual revenues from regulatory telecommunications operations of less than $114 million are designated as Class B and are subject to a less detailed accounting system than are those designated as Class A companies. In the Order on Reconsideration issued in CC Docket Number 00-199, the FCC reinstated Account 3400, Accumulated Amortization-Tangible.

OMB Control Number: 3060-0556.

Title: Special Requirements for 406.025 MHz EPIRBs.

Form Number: N/A.

Type of Review: Extension of a currently approved collection.

Respondents: Individual or household; business and or other profit entities.

Number of Respondents: 9,500.

Estimated Time per Response: 5.04 mins (0.084 hrs.).

Frequency of Response: On occasion reporting requirements.

Total Annual Burden: 798 hours.

Total Annual Cost: $0.

Needs and Uses: 47 CFR Section 80.1061 requires owners of 406.025 MHz Emergency Position Indicating Radiobeacons (EPIRBs) to register information such as name, address, and type of vessel with the National Oceanic and Atmospheric Administration (NOAA). If the collection were not conducted, NOAA would not have access to this information, which would increase the time needed to complete a search and rescue operation.

OMB Control Number: 3060-0896.

Title: Broadcast Auction Form Exhibits.

Form Number: FCC 175.

Type of Review: Extension of a currently approved collection.

Respondents: Business or other for-profit entities; not-for-profit institutions; State, local, or tribal government.

Number of Respondents: 5,650.

Estimated Time per Response: 0.5 to 88 hrs.

Frequency of Response: On occasion reporting requirements.

Total Annual Burden: 10,903 hrs.

Total Annual Costs: $32,535,500.

Needs and Uses: The FCC Rules require that broadcast auction participants submit exhibits disclosing ownership, bidding agreements, and engineering data. The Commission staff use these data to ensure that applicants are qualified to participate in Commission auctions and to ensure that license winners are entitled to receive the new entrant bidding credit, if applicable. Exhibits regarding joint bidding agreements are designed to prevent collusion. Submission of engineering exhibits for non-table services enables the Commission to determine which applications are mutually exclusive.

OMB Control Number: 3060-0906.

Title: Annual DTV Report.

Form Number: FCC 317.

Type of Review: Revision of a currently approved collection.

Respondents: Business or other for-profit entities; not-for-profit institutions.

Number of Respondents: 525.

Estimated time per response: 2.5 to 4.0 hours.

Frequency of Response: Recordkeeping; annual reporting requirement.

Total annual burden: 1,150.

Total annual costs: $52,500.

Needs and Uses: The FCC has established a program for assessing and collecting fees for the provision of ancillary or supplementary services by commercial digital television licensees in compliance with section 336(e)(1) of the Telecommunications Act of 1996. On October 11, 2001, the Commission adopted a Report and Order, which extended this requirement to noncommercial educational television licensees. Licensees use FCC Form 317 to report whether they provided ancillary or supplementary services, which services were provided, the services provided that are subject to a fee, gross revenues received from all feeable ancillary and supplementary services, and the amount of bitstream used to provide ancillary or supplementary service. The data are collected annually from digital television licensees. Licensees providing services subject to a fee are also required to file FCC Form 159 (3060-0589) annually to remit the required fee. Each licensee will be required to retain the records supporting the calculation of the fees due for three years from the date of remittance of fees. The FCC staff uses the data to ensure that DTV licensees comply with the requirements of section 336(e) of the Communications Act.

OMB Control Number: 3060-1003.

Title: Telecommunications Carrier Emergency Contact Information.

Form Number: N/A.

Type of Review: Extension of a currently approved collection.

Respondents: Business or other for-profit entities; not-for-profit institutions; and State, local or tribal government.

Number of Respondents: 5,000.

Estimated Time per Response: 10 mins. (0.167 hrs.).

Frequency of Response: On occasion reporting requirements.

Total Annual Burden: 834 hrs.

Total Annual Costs: None.

Needs and Uses: In response to the events of September 11, 2001, the FCC created a Homeland Security Policy Council to assist the Commission in evaluating and strengthening measures for protecting U.S. communications infrastructure and facilities from further terrorist attacks; to assist the Commission in ensuring rapid restoration of communications capabilities after disruption by a terrorist threat or attack; and to assist the Commission in ensuring that public safety, public health, and other emergency and defense personnel have effective communications services available to them in the immediate aftermath of any terrorist attack within the United States. To fulfill this mission, the FCC's Homeland Security Policy Council will contact key communications providers to determine the extent of a communications disruption and appropriate agency response.

Federal Communications Commission.
William F. Caton,
Acting Secretary.

[FR Doc. 02-7578 Filed 3-28-02; 8:45 am]

BILLING CODE 6712-01-P